DEPARTMENT OF HOMELAND SECURITY

Coast Guard

33 CFR Part 117

[Docket No. USCG-2013-0126]

Drawbridge Operation Regulation, Delaware Bay, Delaware River, NJ

AGENCY: Coast Guard, DHS.

ACTION: Notice of deviation from drawbridge regulation.

SUMMARY: The Coast Guard has issued a temporary deviation from the operating schedule that governs the Tacony-Palmyra Bridge (Route 73), across the Delaware River, mile 107.2 between the townships of Tacony, PA and Palmyra, NJ. This deviation is necessary to facilitate the replacement of the second part of the bascule span deck. This deviation will not reduce the vertical clearance of the bridge.

DATES: This deviation is effective from 9 p.m. on April 26, 2013, until 9 a.m. on May 11, 2013.

ADDRESSES: The docket for this deviation [USCG-2013-0126] is available at http://www.regulations.gov. Type the docket number in the “SEARCH” box and click “SEARCH.” Click on the Open Docket Folder on the line associated with this deviation. You may also visit the Docket Management Facility in Room W12-140, on the ground floor of the Department of Transportation, West Building, 1200 New Jersey Avenue SE., Washington, DC 20590, between 9 a.m. and 5 p.m., Monday through Friday, except Federal holidays.

FOR FURTHER INFORMATION CONTACT: If you have questions about this temporary deviation, call or email Kashanda Booker, Bridge Management Specialist, Fifth Coast Guard District, telephone (757) 398-6227, email Kashanda.l.booker@uscg.mil. If you have questions on reviewing the docket, call Barbara Hairston, Program Manager, Docket Operations, telephone 202-366-9826.

SUPPLEMENTARY INFORMATION: The Burlington County Bridge Commission, who owns and operates this bascule drawbridge, has requested a temporary deviation from the current operating regulations set out in 33 CFR 117.5 and 117.716 to facilitate the replacement of the bascule span deck.

The Tacony-Palmyra Bridge (Route 73) at mile 107.2, across the Delaware River, between Pennsylvania and New Jersey, has a vertical clearance in the closed position to vessels of 53 feet above mean high water (MHW). At no time during this work will there be a reduction in the vertical clearance.

Under this temporary deviation, the replacement repairs will restrict the operation of the draw span every day from April 26, 2013, until May 11, 2013. Vessel openings will be provided with at least 12 hours advance notice given to the bridge operator at (856) 829-3002 or via marine radio on Channel 13.

Vessels than can pass under the bridge without a bridge opening may do so at all times. There are no alternate routes for vessels transiting this section of the Delaware River.

The Coast Guard has coordinated this deviation with the Delaware Pilots, and will inform the users of the waterways through our Local and Broadcast Notices to Mariners of the closure period for the bridge so that vessels can arrange their transits to minimize any impact caused by the temporary deviation.

In accordance with 33 CFR 117.35(e), the drawbridge must return to its regular operating schedule immediately at the end of the effective period of this temporary deviation. This deviation from the operating regulations is authorized under 33 CFR 117.35.

Dated: March 7, 2013.
Waverly W. Gregory, Jr.,
Bridge Program Manager, Fifth Coast Guard District .

[FR Doc. 2013-06026 Filed 3-14-13; 8:45 am]

BILLING CODE 9110-04-P